DEPARTMENT OF DEFENSE

Office of the Secretary

[Transmittal No. 21-27]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 21-27, Policy Justification, and Sensitivity of Technology.

Dated: September 11, 2024.
Aaron T. Siegel,
Alternate OSD Federal Register Liaison Officer, Department of Defense.

BILLING CODE 6001-FR-P

BILLING CODE 6001-FR-C

Transmittal No. 21-27

Notice of Proposed Issuance of Letter of Offer Pursuant to Section 36(b)(1) of the Arms Export Control Act, as amended

(i) Prospective Purchaser: Government of Morocco

(ii) Total Estimated Value:

Major Defense Equipment * | $445.4 million
Other | $ 78.8 million
TOTAL | $524.2 million

Funding Source: National Funds

(iii) Description and Quantity or Quantities of Articles or Services under Consideration for Purchase:

(iv) Major Defense Equipment (MDE):

Eighteen (18) M142 High Mobility Artillery Rocket System (HIMARS) Launchers

Forty (40) M57 Army Tactical Missile Systems (ATACMS)

Thirty-six (36) M31A2 Guided Multiple Launch Rocket Systems (GMLRS) Unitary

Thirty-six (36) M30A2 Guided Multiple Launch Rocket Systems (GMLRS) Alternative Warhead

Nine (9) M1152A1 High Mobility Multipurpose Wheeled Vehicles (HMMWV)

Eighteen (18) International Field Artillery Tactical Data Systems (IFATDS)

(v) Non-MDE:

Also included are forty (40) M28A2 Low Cost Reduced Range Practice Rocket Pods (LCRRPR); radios with similar “SINCGARS” capability; thirty-five (35) Vehicular Dual Long-Range Radio Systems w/GPS; twenty-four (24) Single Radio, Long Range Vehicular System w/GPS; eighteen (18) M1084A2 cargo truck, Family of Medium Tactical Vehicles (FMTV) Resupply Vehicles (RSV); three (3) M1089A2 wrecker truck, FMTV, RSV; eighteen (18) M1095 5-ton trailer, FMTV; twenty-three (23) Simple Key Loader (SKL), AN/PYQ-10; fifty (50) Defense Advanced Global Positioning System Receivers (DAGR); camouflage screen and support systems; support equipment; communications equipment; spare and repair parts; test sets; laptop computers; training and training equipment; publications; systems integration support; technical data; Stockpile Reliability, Quality Assurance and Technical Assistance teams; U.S. Government and contractor technical, engineering, and logistics support services; and other related elements of logistical and program support.

(vi) Military Department: Army (MO-B-UUA)

(vii) Prior Related Cases, if any: None

(viii) Sales Commission, Fee, etc. Paid, Offered, or Agreed to be Paid: None

(ix) Sensitivity of Technology Contained in Defense Article or Defense Services Proposed to be Sold: See Attached Annex

(x) Date Report Delivered to Congress: April 11, 2023

* As defined in Section 47(6) of the Arms Export Control Act.

POLICY JUSTIFICATION

Morocco—High Mobility Artillery Rocket Systems (HIMARS)

The Government of Morocco has requested to buy eighteen (18) M142 High Mobility Artillery Rocket System (HIMARS) launchers; forty (40) M57 Army Tactical Missile Systems (ATACMS); thirty-six (36) M31A2 Guided Multiple Launch Rocket Systems (GMLRS) Unitary; thirty-six (36) M30A2 Guided Multiple Launch Rocket Systems (GMLRS) Alternative Warhead; nine (9) M1152A1 High Mobility Multipurpose Wheeled Vehicles (HMMWV); and eighteen (18) International Field Artillery Tactical Data Systems (IFATDS). Also included are forty (40) M28A2 Low Cost Reduced Range Practice Rocket Pods (LCRRPR); radios with similar “SINCGARS” capability; thirty-five (35) Vehicular Dual Long-Range Radio Systems w/GPS; twenty-four (24) Single Radio, Long Range Vehicular System w/GPS; eighteen (18) M1084A2 cargo truck, Family of Medium Tactical Vehicles (FMTV) Resupply Vehicles (RSV); three (3) M1089A2 wrecker truck, FMTV, RSV; eighteen (18) M1095 5-ton trailer, FMTV; twenty-three (23) Simple Key Loader (SKL), AN/PYQ-10; fifty (50) Defense Advanced Global Positioning System Receivers (DAGR); camouflage screen and support systems; support equipment; communications equipment; spare and repair parts; test sets; laptop computers; training and training equipment; publications; systems integration support; technical data; Stockpile Reliability, Quality Assurance and Technical Assistance teams; U.S. Government and contractor technical, engineering, and logistics support services; and other related elements of logistical and program support. The estimated total cost is $524.2 million.

This proposed sale will support the foreign policy and national security of the United States by helping to improve the security of a Major Non-NATO Ally that continues to be an important force for political stability and economic progress in North Africa.

The proposed sale will improve Morocco's capability to meet current and future threats and will contribute to Morocco's ability to detect threats and control its borders, contributing to the maintenance of regional stability and security. It will also enhance the interoperability of the Royal Armed Forces (FAR), which routinely exercises with U.S. forces, focusing on countering terrorism and Violent Extremist Organizations (VEOs) in the Maghreb and Sahel region. Morocco will have no difficulty absorbing these articles into its armed forces.

The proposed sale of this equipment and support will not alter the military balance in the region.

The principal contractors will be Lockheed Martin Missiles and Fire Control, Camden, AK; L3 Harris Communications, Inc., Rochester, NY; Raytheon, Waltham, MA; COBHAM Aerospace Connectivity, Buckinghamshire, UK; Oshkosh Defense, LLC, Oshkosh, WI; AAR Corporation AAR Manufacturing, Inc., Cadillac, MI; and AM General LLC, South Bend, IN. There are no known offset agreements proposed in connection with this potential sale.

Implementation of this proposed sale will require the assignment of U.S. Government and U.S. contractor representatives in Country: one (1) Contractor Field Service Representative (HIMARS) for a period of two years; two (2) U.S. Government personnel; and seven (7) U.S. contractor representatives (13M HIMARS Crewmember Training) for a period of five (5) months; one (1) Contractor Field Service Representative (IFATDS) for a period of one year; one (1) Contractor Field Service Representative (FMTV) for a period of one year; and one (1) Contractor Field Service Representative (HMMWV) for a period of one year.

There will be no adverse impact on U.S. defense readiness as a result of this proposed sale.

Transmittal No. 21-27

Notice of Proposed Issuance of Letter of Offer Pursuant to Section 36(b)(1) of the Arms Export Control Act

Annex

Item No. vii

(vii) Sensitivity of Technology:

1. The M142 High Mobility Artillery Rocket System (HIMARS) launcher is a C-130 transportable wheeled version of the M270 Multiple Launch Rocket System (MLRS) launcher. It integrates the launch system on a five-ton Family of Medium Tactical Vehicles (FMTV) chassis. The system is capable of firing all of the MLRS Family of Munitions. The Universal Fire Control System (UFCS) provides the command and control interface, man-machine interface, weapon interface, launcher interface and embedded training, the UFCS enables the launcher to inter-operate with compatible national fire direction systems to navigate to specific fire and reload points, compute the technical firing solution, and orient the Launcher Module on the target to deliver the weapon accurately and effectively. The UFCS also provides position navigation and processing necessary to direct and maintain control of the launcher system to allow for accurate firing and loading of weapons.

2. The Guided Multiple Launch Rocket System—Unitary (GMLRS-U) is a solid propellant artillery rocket fires from the High Mobility Artillery Rocket System (HIMARS). GMLRS uses GPS-aided inertial guidance to accurately and quickly deliver a single high-explosive blast fragmentation warhead to targets. The GMLRS-U has an operational range of 15-70km.

3. The Guided Multiple Launch Rocket System—Alternative Warhead (GMLRS-AW) is a Department of Defense alternative munition for a “cluster-type” effect of the GMLRS munition, which is in compliance with cluster munitions statute and policy. The AW carries a 200-pound fragmentation assembly filled with high explosives which, upon detonation, accelerates two layers of preformed tungsten penetrators toward a target location. This provides an effective capability against imprecisely located targets over a wide area without the risk of leaving behind the unexploded ordinance associated with legacy cluster munitions. The GMLRS-AW is a material change to the GMLRS-U, but the two systems share a greater than 90% commonality.

4. The M57 Army Tactical Missile Systems (ATACMS)—Unitary is a conventional, semi-ballistic missile which utilizes a 500-pound high explosive warhead which can be fired from the HIMARS. ATACMS is a guided by GPS-aided inertial navigation systems to provide precise targeting over ranges of up to 270km.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Morocco can provide substantially the same degree of protection for the sensitive technology being released as the U.S. Government. This sale is necessary in furtherance of the U.S. foreign policy and national security objectives outlined in the Policy Justification.

8. All defense articles and services listed in this transmittal are authorized for release and export to the Government of Morocco.

[FR Doc. 2024-21053 Filed 9-16-24; 8:45 am]

BILLING CODE 6001-FR-P